INTERNATIONAL BOUNDARY AND WATER COMMISSION; UNITED STATES AND MEXICO

Notice of Availability of Final Programmatic Environmental Impact Statement, Improvements to the USIBWC Rio Grande Flood Control Projects along the Texas-Mexico Border

AGENCY: United States Section, International Boundary and Water Commission (USIBWC).

ACTION: Notice of Availability of Final Programmatic Environmental Impact Statement.

SUMMARY: Pursuant to section 102(2)(c) of the National Environmental Policy Act (NEPA) of 1969, as amended, the United States Section, International Boundary and Water Commission (USIBWC) has prepared a Programmatic Environmental Impact Statement (PEIS) for future improvements to three Rio Grande Flood Control Projects (FCP) operated by the USIBWC along the Texas-Mexico Border: The Rectification FCP, the Presidio FCP and Lower Rio Grande FCP. The PEIS, prepared in cooperation with the United States Bureau of Reclamation, United States Fish and Wildlife Service and United States Army Corps of Engineers, analyzes potential impacts of the No Action Alternative and three action alternatives for future FCP improvements under consideration.

Because several measures under consideration are at a conceptual level of development, the USIBWC has taken a broad programmatic look at the potential environmental implications of measures identified for future implementation. The USIBWC will apply the programmatic evaluation as an overall guidance for future environmental evaluations of individual improvement projects whose implementation is anticipated or possible within a 20-year timeframe. Once any given improvement project is identified for future implementation, site-specific environmental documentation will be developed based on project specifications and PEIS findings.

DATES: The Final PEIS will be available to agencies, organizations and the general public on January 8, 2008. A copy of the Final PEIS will also be posted in the USIBWC Web site at http://www.ibwc.state.gov.

FOR FURTHER INFORMATION CONTACT: Mr. Daniel Borunda, Environmental Protection Specialist, Environmental Management Division, USIBWC, 4171 North Mesa Street, C-100, El Paso, Texas 79902 or e-mail: danielborunda@ibwc.state.gov.

SUPPLEMENTARY INFORMATION: The PEIS analyzes potential effects of the No Action Alternative and three action alternatives for future improvement of the Rectification, Presidio and Lower Rio Grande Flood Control Projects located along the Texas-Mexico border. Potential improvements were organized in three action alternatives: (1) Enhanced Operation and Maintenance Alternative, focusing on engineering improvements; (2) Integrated Water Resources Management Alternative, integrating additional water conservation and quality measures to the projects' core mission of flood control and water delivery; and (3) Multipurpose Project Management Alternative incorporating, in addition to engineering improvements and integrating water management, additional measures for multiple use of the floodway and environmental measures supporting initiatives by federal agencies, local governments, and other organizations. These additional measures would be conducted largely under cooperative agreements with the proponent agency or organization. The PEIS evaluated alternatives for each flood control project in terms of potential effects relative to those of the No Action Alternative, in the areas of water, biological, cultural and socioeconomic resources, land use, and environmental health issues. The Multipurpose Project Management Alternative was selected as the preferred option for implementation of improvements to the flood control projects as it supports improvements in water quality and water conservation, and is consistent with the core project mission of flood control and water delivery. Public participation in the PEIS development included scoping meetings, a 45-day review period of the Draft PEIS, and Public Hearings held at the Cities of El Paso, Presidio and McAllen, Texas, on August 21, 22, and 28, 2007, respectively.

Copies of the FEIS have been sent to agencies, organizations and individuals who participated in the scoping process and to those who have requested copies of the FEIS. A limited number of Final PEIS copies may be obtained upon request from the contact person identified above. A Record of Decision will be issued after a minimum of 30 days following the filing of the Final PEIS. Any comments on the Final PEIS must be received no later than 30 days after the date of publication of the notice of availability by the Environmental Protection Agency (EPA) in the Federal Register. No action will be taken on the proposed action before 30 days following publication of the notice of availability of the Final PEIS by EPA.

Dated: January 2, 2008.
Susan E. Daniel,
General Counsel.

[FR Doc. E8-37 Filed 1-7-08; 8:45 am]

BILLING CODE 7010-01-P